DEPARTMENT OF HEALTH AND HUMAN SERVICES

Centers for Disease Control and Prevention

[Program Announcement 03094]

Perinatal HIV Prevention in the United States: National Organizations Working Toward Elimination; Notice of Availability of Funds

Application Deadline: August 1, 2003.

A. Authority and Catalog of Federal Domestic Assistance Number

This program is authorized under section 301(a) and 317K(2) of the Public Health Service Act, (42 U.S.C. 241(a) and 274b (k)(2)), as amended. The Catalog of Federal Domestic Assistance number is 93.943.

B. Purpose

The Centers for Disease Control and Prevention (CDC) announces the availability of fiscal year (FY) 2003 funds for a cooperative agreement program for “Perinatal HIV Prevention in the United States: National Organizations Working Toward Elimination.” This program addresses the “Healthy People 2010” focus area(s) of HIV and Maternal, Infant and Child Health.

The purpose of this program is to: (1) Develop, provide and disseminate technical assistance and other educational and training materials needed to improve perinatal HIV prevention efforts nationally; (2) promote the integration of: universal voluntary HIV testing into prenatal care across the United States, rapid HIV testing for women with unknown HIV status in labor, and offering repeat HIV testing to women at risk for seroconversion during pregnancy; and (3) foster the exchange of information, ideas and experiences of perinatal HIV prevention among maternal and child health providers, HIV care providers and consumers.

Measurable outcomes of the program will be in alignment with one or more of the following performance goals for the National Center for HIV, STD and TB Prevention (NCHSTP): (1) Reduce the number of new HIV infections; (2) increase the proportion of HIV-infected people who know they are infected; (3) increase the proportion of HIV-infected people who are linked to appropriate prevention, care, and treatment services; and (4) strengthen the capacity nationwide to monitor the epidemic, develop and implement effective HIV prevention interventions and evaluate prevention programs.

C. Eligible Applicants

Applications may be submitted by national organizations having demonstrated experience providing needs assessments, capacity building, curricula, and training about prevention of mother to child transmission of HIV (PMTCT) for consumers and health care workers, including: Pediatricians, obstetricians, family practitioners, nurses, nurse-midwives, nurse practitioners, counselors, health educators, PMTCT program managers, and other health care providers. These national organizations may be:

• Public nonprofit organizations

• Private nonprofit organizations

• Faith-based organizations

This program is limited to national organizations that have the capability to serve the broadest U.S. audiences by supporting national efforts to assure consistent messages in training and education.

Note: Title 2 of the United States Code section 1611 states that an organization described in section 501(C)(4) of the Internal Revenue Code that engages in lobbying activities is not eligible to receive Federal funds constituting an award, grant or loan.

D. Funding

Availability of Funds

Approximately $700,000 is available in FY 2003, to fund approximately three to four awards. It is expected that the average award will be $175,000, ranging from $50,000 to $225,000. It is expected that the awards will begin on or about September 15, 2003, and will be made for a 12-month budget period within a project period of up to four years. Funding estimates may change.

Continuation awards within an approved project period will be made on the basis of satisfactory progress as evidenced by required reports and the availability of funds.

Use of Funds

Funds from this cooperative agreement should not be used for major purchase of equipment or construction. Requests for equipment such as computers and Liquid Crystal Display (LCD) Projectors for training require detailed justification.

Recipient Financial Participation

Matching funds are not required for this program.

Funding Preferences

Funding preference will be given to national organizations with prior experience providing training to health care providers regarding: (1) Incorporation of PMTCT into health care provider education; (2) offering of universal voluntary HIV testing to pregnant women as a routine part of prenatal care; (3) implementation of voluntary rapid HIV testing programs in labor and delivery settings; and (4) to national organizations that have developed and disseminated patient educational materials on HIV, perinatal HIV and its prevention.

E. Program Requirements

In conducting activities to achieve the purpose of this program, the recipient will be responsible for the activities listed in 1. Recipient Activities and CDC will be responsible for the activities listed in 2. CDC Activities.

1. Recipient Activities

a. Provide training and technical assistance to programs and health care providers in sharing and applying knowledge and expertise regarding HIV prevention and perinatal transmission. Specifically, disseminate educational materials, and provide training and technical assistance on approaches to help providers achieve high rates of prenatal HIV testing by using recommended HIV screening practices including opt-out strategies, offering rapid HIV testing for women in labor who present with undocumented HIV status and linking HIV-at risk and HIV-infected women and their infants to comprehensive medical and social services.

b. Sponsor a variety of forums for presentation of information on HIV perinatal reduction (i.e., policies, programs, materials, and other technical information) and other public health information related to HIV prevention and pregnancy among Maternal and Child Health (MCH) populations.

c. Collaborate with other funded national organizations and the CDC, Division of HIV/AIDS and other Centers, Institutes, and Offices (CIOs) within CDC which address HIV prevention relevant to MCH populations, to assess needs and provide technical assistance.

d. Participate in an annual CDC-sponsored meeting on perinatal HIV prevention.

2. CDC Activities

a. Facilitate and assist in the development of training materials and curricula, administrative tools and policy manuals.

b. Participate in defining the scope of perinatal HIV transmission and other prevention needs relevant to MCH populations, and provide information and technical assistance in meeting those needs.

c. Work with each awardee to facilitate and support collaboration among funded national organizations as well as CDC-funded perinatal HIV prevention and surveillance programs.

d. Provide a synthesis of known best practices and interventions regarding prevention of perinatal transmission of HIV for all pregnant women, including women with little or no prenatal care and unknown HIV status at labor and delivery.

e. Collaborate in the development of forums that focus on perinatal HIV transmission and other public health information that relates to HIV prevention among maternal-child health populations.

f. Assist in the evaluation of perinatal HIV prevention education, training, and materials.

g. Collaborate in the presentation and publication of evaluation findings.

h. Conduct site visits to monitor progress of the programs.

F. Content

Applications

The Program Announcement title and number must appear in the application. Use the information in the Program Requirements, Other Requirements, and Evaluation Criteria sections to develop the application content. Your application will be evaluated on the criteria listed, so it is important to follow them in laying out your program plan. The narrative should be no more than 18 pages, single-spaced, printed on one side, with one-inch margins, and unreduced 12-point font.

The narrative should consist of:

1. Abstract (not to exceed one page): An executive summary of your program covered under this announcement.

2. Program Plan (Not to exceed 17 pages): In developing the application under this announcement, please review the recipient activities and, in particular, evaluation criteria and respond concisely and completely. The program plan should address activities to be conducted over the entire four-year budget period.

3. Budget: Submit an itemized budget and supporting justification that is consistent with your proposed program plan.

G. Submission and Deadline

Application Forms

Submit the signed original and two copies of PHS 5161-1 (OMB Number 0920-0428). Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address:

The application must be received by 4 p.m. Eastern Time August 1, 2003. Submit the application to: Technical Information Management-PA# 03094, CDC Procurement and Grants Office, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement regarding educational material and training on perinatal HIV prevention. Measures of effectiveness must relate to the performance goals stated in the purpose section of this announcement. Measures must be objective and quantitative and must measure the intended outcome. These measures of effectiveness must be submitted with the application and will be an element of evaluation.

An independent review group appointed by CDC will evaluate each application against the following criteria:

1. Scope of Plan (30 points): a succinct statement of the intent and desired outcome(s) of the project and clearly stated and measurable outcome objectives to be achieved by the project. These objectives must be quantifiable in terms of outputs and time frame for achievement. The statement of intent and outcome objectives should address the purpose of the cooperative agreement, which is to: (1) Develop, provide and disseminate technical assistance and other educational and training materials needed to improve perinatal HIV prevention efforts nationally; (2) promote the integration of universal voluntary HIV testing into prenatal care across the United States, rapid HIV testing for women with unknown HIV status in labor, and offering repeat HIV testing to women at risk for seroconversion during pregnancy; and (3) foster the exchange of information, ideas and experiences of perinatal HIV prevention among maternal and child health providers, HIV care providers and consumers.

2. Personnel and Staffing (30 points): the qualifications and experience of key personnel, other professional staff and support staff available to carry out the perinatal HIV prevention activities.

3. Methods (25 points): Clear statement of approach and activities required to achieve the stated perinatal HIV prevention outcome objectives. The relationship between activities and objectives must be explicitly demonstrated. Description of activities must include a delineation of resources required, identification of the personnel who will perform the work, and a management plan with description of the systems and procedures which will be used to manage the progress, budget and operations of the project.

4. Evaluation (15 points): Detailed plans for evaluating the degree to which the program achieves the purpose of the cooperative agreement (as listed in the purpose section, and above in the description of the scope of plan.) Measures must be objective and quantitative and must measure the intended outcome. The submission of these measures shall be a data element to be submitted with, or incorporated into the semiannual progress reports.

5. Budget (reviewed, but not scored): There is an upper limit of $250,000. An application submitted with a budget over $250,000, will be reviewed and, if awarded, only partially funded. The budget will be reviewed to determine the extent to which it is reasonable, clearly justified, consistent with the intended use of the funds, and allowable. All budget categories should be itemized.

I. Other Requirements

Technical Reporting Requirements

Provide CDC with original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC Web site.

AR-4 HIV/AIDS Confidentiality Provisions

AR-5 HIV Program Review Panel Requirements

AR-7 Executive Order 12372 Review

AR-9 Paperwork Reduction Act Requirements

AR-10 Smoke-Free Workplace Requirements

AR-11 Healthy People 2010

AR-12 Lobbying Restrictions

AR-14 Accounting System Requirements

AR-21 Small, Minority, and Women-Owned Business

AR-22 Research Integrity

J. Where To Obtain Additional Information

This and other CDC announcements, the necessary applications, and associated forms can be found on the CDC Web site, Internet address: http://www.cdc.gov. Click on “Funding” then “Grants and Cooperative Agreements”.

For general questions about this announcement, contact: Technical Information Management, CDC Procurement and Grants Office, 2920 Brandywine Road, Atlanta, GA 30341-4146, Telephone: 770-488-2700.

For business management and budget assistance, contact: Carlos Smiley, Grants Management Specialist, Procurement and Grants Office, Centers for Disease Control and Prevention, 2920 Brandywine Road, Atlanta, GA 30341-4146, Telephone: 770-488-2722, E-mail address: anx3@cdc.gov.

For program technical assistance, contact: Margaret A. Lampe, RN, Project Officer, Division of HIV/AIDS Prevention, Centers for Disease Control and Prevention, 1600 Clifton Road, Mailstop E-45, Atlanta, GA 30333, Telephone: 404-639-5189, E-mail address: m1ampe@cdc.gov.

Dated: June 7, 2003.
Sandra R. Manning,
Director, Procurement and Grants Office, Centers for Disease Control and Prevention.

[FR Doc. 03-15217 Filed 6-16-03; 8:45 am]

BILLING CODE 4163-18-P